DEPARTMENT OF HEALTH AND HUMAN SERVICES

National Institutes of Health

Center for Scientific Review; Amended Notice of Meeting

Notice is hereby given of a change in the meeting of the Center for Scientific Review Special Emphasis Panel, May 15, 2008, 10 a.m., to May 16, 2008, 8 p.m., National Institutes of Health, 6701 Rockledge Drive, Bethesda, MD, 20892 which was published in the Federal Register on April 11, 2008, 73 FR 19855-19857.

The meeting will be held one day only, May 16, 2008, from 11 a.m. to 4 p.m. The meeting location remains the same. The meeting is closed to the public.

Dated: April 17, 2008.
Jennifer Spaeth,
Director, Office of Federal Advisory Committee Policy.

[FR Doc. E8-9002 Filed 4-24-08; 8:45 am]

BILLING CODE 4140-01-M